GENERAL SERVICES ADMINISTRATION

[OMB Control No. 3090-0221; Docket 2015-0001; Sequence 3]

Submission to OMB for Review; Civilian Board of Contract Appeals; Civilian Board of Contract Appeals Rules of Procedure (GSA Form 9534 Civilian Board of Contract Appeals Subpoena; Form 4 Government Certificate of Finality; Form 5 Appellant/Applicant Certificate of Finality)

AGENCY: Civilian Board of Contract Appeals, GSA.

ACTION: Notice of request for comments regarding a reinstatement to an existing OMB clearance.

SUMMARY: Under the provisions of the Paperwork Reduction Act, the Regulatory Secretariat has submitted to the Office of Management and Budget (OMB) a request to review and approve an extension of a previously approved information collection requirement regarding the Civilian Board of Contract Appeals (CBCA) Rules of Procedure. A notice was published in the Federal Register at 80 FR 13002, on March 12, 2015. No comments were received.

DATES: Submit comments on or before: July 13, 2015.

ADDRESSES: Submit comments identified by Information Collection IC 3090-0221, Civilian Board of Contract Appeals Rules of Procedure, by any of the following methods:

• Regulations.gov: http://www.regulations.gov. Submit comments via the Federal eRulemaking portal by searching the OMB Control number 3090-0221. Select the link “Comment Now” that corresponds with “Information Collection IC 3090-0221, Civilian Board of Contract Appeals Rules of Procedure”. Follow the instructions provided on the screen. Please include your name, company name (if any), and “Information Collection 3090-0221, Civilian Board of Contract Appeals Rules of Procedure” on your attached document.

• Mail: General Services Administration, Regulatory Secretariat Division (MVCB), 1800 F Street NW., Washington, DC, 20405. ATTN: Ms. Flowers/IC 3090-0221, Civilian Board of Contract Appeals Rules of Procedure.

Instructions: Please submit comments only and cite Information Collection 3090-0221, Civilian Board of Contract Appeals Rules of Procedure, in all correspondence related to this collection. All comments received will be posted without change to http://www.regulations.gov, including any personal and/or business confidential information provided.

FOR FURTHER INFORMATION CONTACT: J. Gregory Parks, Chief Counsel, Civilian Board of Contract Appeals, 1800 F Street NW., Washington, DC 20405, telephone 202-606-8800 or via email to Greg.Parks@cbca.gov.

SUPPLEMENTARY INFORMATION:

A. Purpose

The CBCA requires the information collected in order to conduct proceedings in contract appeals and petitions, and cost applications. Parties include those persons or entities filing appeals, petitions, cost applications, and government agencies.

B. Annual Reporting Burden

Respondents: 85.

Responses per Respondent: 1.

Hours per Response: .1.

Total Burden Hours: 9.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite OMB Control No. 3090-0221, Civilian Board of Contract Appeals Rules of Procedure, in all correspondence.

Dated: June 4, 2015.
David A. Shive,
Chief Information Officer.

[FR Doc. 2015-14446 Filed 6-11-15; 8:45 am]

BILLING CODE 6820-AL-P